CONSUMER PRODUCT SAFETY COMMISSION

Sunshine Act Meetings Notice

TIME AND DATE: Friday, July 29, 2022; 10:00 a.m.

PLACE: The meeting will be held remotely.

STATUS: Commission Meeting—Closed to the Public.

MATTERS TO BE CONSIDERED: Decisional Matter.

CONTACT PERSON FOR MORE INFORMATION: Alberta E. Mills, Office of the Secretary, U.S. Consumer Product Safety Commission, 4330 East West Highway, Bethesda, MD 20814, 301-504-7479 (Office) or 240-863-8938 (Cell).

Dated: July 22, 2022.
Alberta E. Mills,
Commission Secretary.

[FR Doc. 2022-16140 Filed 7-22-22; 4:15 pm]

BILLING CODE 6355-01-P